NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: April 30, 2013; 1:00 p.m. to 5:30 p.m. (EST).

May 1, 2013; 8:00 a.m. to 12:00 p.m. (EST).

Place: National Science Foundation, 4201 Wilson Boulevard, Stafford I, Room 1235.

Type of Meeting: Open.

Contact Person: Joan Miller, National Science Foundation, 4201 Wilson Boulevard, Arlington, VA 22230 (703) 292-8200.

To help facilitate your entry into the building, contact the individual listed above. Your request to attend this meeting should be received by email (jlmiller@nsf.gov) on or prior to April 29, 2013.

Purpose of Meeting: To provide advice concerning issues related to the oversight, integrity, development and enhancement of NSF's business operations.

Agenda:

April 30, 2013

Welcome/Introductions; BFA/OIRM/CIO Updates; NSF Workforce Challenges/BFA Strategic Priorities—Updates, NSF Strategic Plan—Links to NSF and Employee Performance Plans.

May 1, 2013

Leveling Workload; Virtual Panels and Future of Committee Meetings; Prepare for Meeting with NSF Acting Director; Discussion with NSF Acting Deputy Director; Closing Discussion.

Dated: April 2, 2013.
Susanne Bolton,
Committee Management Officer.

[FR Doc. 2013-08011 Filed 4-5-13; 8:45 am]

BILLING CODE 7555-01-P